DEPARTMENT OF ENERGY

Federal Energy Regulatory Commission

[Project No. 7887-019]

Ashuelot River Hydro, Inc.; Notice of Application Accepted for Filing and Soliciting Motions To Intervene and Protests

Take notice that the following hydroelectric application has been filed with the Commission and is available for public inspection.

a. Type of Application: Subsequent Minor License.

b. Project No.: 7887-019.

c. Date Filed: June 28, 2024.

d. Applicant: Ashuelot River Hydro, Inc. (Ashuelot Hydro).

e. Name of Project: Minnewawa Hydroelectric Project.

f. Location: On the Minnewawa Brook, in the Town of Marlborough, Cheshire County, New Hampshire.

g. Filed Pursuant to: Federal Power Act, 16 U.S.C.791(a)-825(r).

h. Applicant Contact: Justin Ahmann, Owner, Ashuelot River Hydro, Inc., 75 Somers Road, P.O. Box 474, Somers, Montana 59932; telephone at (406) 393-2127 or email Justin@apec-mt.com; or Daniel Parker, Consultant, 45north Renewable Energy, LLC, 330 May Road, Potsdam, New York 13676; telephone at (315) 261-2158 or email 45northRenewables@mail.com.

i. FERC Contact: Justin R. Robbins, Project Coordinator, New England Branch, Division of Hydropower Licensing; telephone at (202) 502-8308; email at justin.robbins@ferc.gov.

j. The deadline for filing motions to intervene and protests and requests for cooperating agency status: on or before 5:00 p.m. Eastern Time on December 15, 2025.

The Commission strongly encourages electronic filing. Please file motions to intervene and protests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Minnewawa Hydroelectric Project (P-7887-019).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. The application has been accepted but is not ready for environmental analysis at this time.

l. Project Description: The Minnewawa Project includes a 245-foot-long, 63-foot-high reinforced mass concrete dam and spillway fitted with flashboards and an intake structure. The crest elevation of the dam is 1070.2 feet National Geodetic Vertical Datum of 1929 (NGVD 29) above the flashboards. The dam creates a 10-acre impoundment with a storage capacity of 155 acre-feet. From the impoundment, water flows into the intake structure and through a 5,717-foot-long partially buried steel penstock into a powerhouse containing a single 1,000-kilowatt (kW) Francis turbine-generator unit. Water is then discharged back into Minnewawa Brook through a 790-foot-long tailrace. The project creates an approximately 2,900-foot bypassed reach of Minnewawa Brook, which extends from Minnewawa dam to the confluence of the tailrace with Minnewawa Brook. A 100-foot-long transmission line transmits power from the powerhouse to the grid. There are no project recreation facilities.

The average annual generation of the project between 2003 through 2023 was 3,945 megawatt-hours.

Under a subsequent license, Ashuelot Hydro proposes to: (1) continue operating the project in an instantaneous run-of-river mode, such that flow in the Minnewawa Brook, as measured immediately downstream from the project tailrace, approximates the instantaneous sum of the inflow to the project impoundment, and releasing a minimum flow of 4 cubic feet per second into the bypassed reach, as measured immediately downstream from the Minnewawa Dam, or inflow to the impoundment, whichever is less; (2) install a new 75-kW fixed geometry turbine-generator unit in the existing powerhouse; and (3) install a tap and isolation valve to the existing penstock.

m. A copy of the application is available for review on the Commission's website at https://www.ferc.gov using the “eLibrary” link. Enter the project's docket number excluding the last three digits in the docket number field to access the document (P-7887). For assistance, contact FERC at FERCOnlineSupport@ferc.gov, (866) 208-3676 (toll free), or (202) 502-8659 (TTY).

You may also register online at http://www.ferc.gov/docs-filing/esubscription.asp to be notified via email of new filings and issuances related to this or other pending projects. For assistance, contact FERC Online Support.

n. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

o. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural Schedule: The application will be processed according to the following schedule. Revisions to the schedule will be made as appropriate.

Milestone | Target date
Issue Scoping Notice | October 2025.
Scoping Comments due | November 2025.
Motions to Intervene and Protests due | December 2025.
Issue Ready for Environmental Analysis Notice | January 2026.

Dated: October 15, 2025.
Debbie-Anne A. Reese,
Secretary.

[FR Doc. 2025-20784 Filed 11-21-25; 8:45 am]

BILLING CODE 6717-01-P